DEPARTMENT OF TRANSPORTATION

Federal Transit Administration

[Docket No. FTA-2010-0009]

Notice of Availability of Proposed New Starts/Small Starts Policy Guidance

AGENCY: Federal Transit Administration (FTA), DOT.

ACTION: Notice of availability; request for comments.

SUMMARY: This notice announces the availability of the Federal Transit Administration's (FTA) Proposed Policy Guidance on New Starts/Small Starts and requests your comments on it. This document compliments the Notice of Proposed Rulemaking for Major Capital Investment Projects by describing the detailed measures proposed for evaluation of projects seeking New Starts and Small Starts funding and the way these measures would be used in project ratings if adopted. The proposed regulations and appendix are intended to act as a framework for the project evaluation and rating process, and the proposed policy guidance fills in the details.

DATES: Comments must be received on or before March 26, 2012. Late filed comments will be considered to the extent practicable.

ADDRESSES: Comments: You may submit comments identified by docket number (FTA-2010-0009) by any of the following methods:

Federal eRulemaking Portal: Go to http://www.regulations.gov. Follow the online instructions for submitting comments.

U.S. Mail: U.S. Department of Transportation, Docket Operations, West Building, Room W12-140, 1200 New Jersey Avenue SE., Washington, DC 20590.

Hand Delivery: U.S. Department of Transportation, Docket Operations, West Building, Room W12-140, 1200 New Jersey Avenue SE., Washington, DC 20590, between 9 a.m. and 5 p.m., Monday through Friday, except Federal holidays.

Fax: (202) 493-2251.

Instructions: You must include the agency name (Federal Transit Administration) and the docket number (FTA-2010-0009) or the Regulatory Identification Number (2132-AB02) for this rulemaking at the beginning of your comments. All comments received will be posted, without change and including any personal information provided, to http://www.regulations.gov, where they will be available to internet users. Please see, the Privacy Act.

You must submit two copies if your comments if you submit them by mail. If you wish to receive confirmation that FTA received your comments, you must include a self-addressed, stamped postcard. Due to security procedures in effect since October 2001 regarding mail deliveries, mail received through the U.S. Postal Service may be subject to delays. Parties submitting comments may wish to consider using an express mail firm to ensure the prompt filing of any submissions not filed electronically or by hand.

FOR FURTHER INFORMATION CONTACT: For program matters, Elizabeth Day, Office of Planning and Environment, (202) 366-5159 or Elizabeth.Day@dot.gov. For legal matters, Christopher VanWyk, (202) 366-1733 or Christopher.VanWyk@dot.gov.

SUPPLEMENTARY INFORMATION: As described in the notice of proposed rulemaking to amend the regulation under which the Federal Transit Administration evaluates and rates major new transit investments seeking funding under the discretionary “New Start” and “Small Starts” program authorized by Section 5309 of Title 49, U.S. Code, FTA is making available this proposed policy guidance for public comment. Section 5309(d)(6) of Title 49, U.S. Code, requires the FTA to publish policy guidance regarding the major capital investment program review and evaluation process and criteria each time significant changes are made, but not less frequently than once every two years. Further, the law requires FTA to invite and respond to public comment on proposed policy guidance. FTA invites comments on the proposed policy guidance, which is available in the docket (under the docket number provided above) and on FTA's public Web site.

Issued on: January 17, 2012.
Peter Rogoff,
FTA Administrator.

[FR Doc. 2012-1195 Filed 1-24-12; 8:45 am]

BILLING CODE;P